DEPARTMENT OF VETERANS AFFAIRS

Veterans' Advisory Committee on Education, Notice of Meeting

The Department of Veterans Affairs gives notice that a meeting of the Veterans' Advisory Committee on Education, authorized by 38 U.S.C. 3692, will be held on March 12 and March 13, 2001. The meeting will take place at the Department of Veterans Affairs, Room 542, 1800 G Street, NW., Washington, DC. The meeting will begin at 8:30 a.m. and end at 4:00 p.m. on Monday, March 12. On Tuesday, March 13, the meeting will begin at 8:30 a.m. and end at 12:00 p.m. The purpose of the Committee is to assist in the evaluation of existing programs and services, and recommend needed programs and services. The focus of this meeting will be “Partnership for Veterans' Education”. The Committee will also review recently proposed legislation increasing GI Bill benefits for the 21st century and submit their recommendations for necessary improvements to the GI Bill to the Secretary.

The meeting will be open to the public. Those wishing to attend should contact Mr. Bill Susling, Education Policy and Program Administration, (phone 202-273-7187) prior to the meeting.

Interested persons may attend, appear before, or file statements with the Committee. Statements, if in written form, may be filed before or within 10 days after the meeting. Oral statements will be heard at 9:00 a.m. Tuesday, March 13, 2001.

Dated: February 23, 2001.
By direction of the Secretary.
Ventris C. Gibson,
Committee Management Officer.

[FR Doc. 01-5188 Filed 3-2-01; 8:45 am]

BILLING CODE 8320-01-M